DEPARTMENT OF HOMELAND SECURITY

Coast Guard

33 CFR Part 165

[Docket No. USCG-2020-0295]

Safety Zones; Annual Events in the Captain of the Port Buffalo Zone

AGENCY: Coast Guard, DHS.

ACTION: Notice of enforcement of regulation.

SUMMARY: The Coast Guard will enforce certain safety zones located in the federal regulations for Annual Events in the Captain of the Port Buffalo. This action is necessary and intended to protect the safety of life and property on navigable waters prior to, during, and immediately after these events. During each enforcement period, no person or vessel may enter the respective safety zone without the permission of the Captain of the Port Buffalo.

DATES:

The regulations in 33 CFR 165.939(b)(22) as listed in Table 165.939 will be enforced from 9:30 p.m. through 10:30 p.m. on July 03, 2020.

The regulations in 33 CFR 165.939(b)(27) as listed in Table 165.939 will be enforced from 9:45 p.m. through 10:45 p.m. on July 03, 2020.

The regulations in 33 CFR 165.939(b)(28) as listed in Table 165.939 will be enforced from 9 p.m. until 10 p.m. on July 25, 2020 and 9 p.m. until 10 p.m. on July 26, 2020.

The regulations in 33 CFR 165.939(c)(5) as listed in Table 165.939 will be enforced from 10:45 a.m. until 8:15 p.m. on August 09, 2020.

The regulations in 33 CFR 165.939(b)(29) as listed in Table 165.939 will be enforced from 9 p.m. through 10:15 p.m. on July 05, 2020 with a rain date of July 06, 2020.

FOR FURTHER INFORMATION CONTACT: If you have questions about this notice of enforcement, contact LT Sean Dolan, Chief of Waterways Management, U.S. Coast Guard Sector Buffalo via telephone 716-843-9322 or email D09-SMB-SECBuffalo-WWM@uscg.mil.

SUPPLEMENTARY INFORMATION: The Coast Guard will enforce the Safety Zones; Annual Events in the Captain of the Port Buffalo Zone listed in 33 CFR 165.939 for the following events:

1. Village Fireworks, Sodus Point, NY; The safety zone listed in Table 165.939 as (b)(22) will be enforced within a 560-foot radius of position 43°16′33″ N, 076°58′27″ W, from 9:30 p.m. until 10:30 p.m. on July 03, 2020.

2. Tom Graves Memorial Fireworks, Port Bay, NY; The safety zone listed in Table 165.939 as (b)(27) will be enforced within a 420-foot radius of position 43°17′54.2″ N, 076°49′50.9″ W from 9:45 p.m. through 10:45 p.m. on July 03, 2020.

3. Oswego Harborfest, Oswego, NY; The safety zone listed in Table 165.939 as (b)(28) will be enforced from 9:00 p.m. until 10:00 p.m. on July 25, 2020 and 9:00 p.m. until 10:00 p.m. on July 26, 2020.

4. Ski Show Sylvan Beach, Sylvan Beach, NY; The safety zone listed in Table 165.939 as (c)(5) will be enforced from 10:45 a.m. until 8:15 p.m. on August 09, 2020.

5. Oswego Independence Day Celebration Fireworks, Oswego, NY; The safety zone listed in Table 165.939 as (b)(29) will be enforced from 9 p.m. through 10:15 p.m. on July 05, 2020 with a rain date of July 06, 2019.

Pursuant to 33 CFR 165.23, entry into, transiting, or anchoring within the safety zone during an enforcement period is prohibited unless authorized by the Captain of the Port Buffalo or her designated representative. Those seeking permission to enter the safety zone may request permission from the Captain of Port Buffalo via channel 16, VHF-FM. Vessels and persons granted permission to enter the safety zone shall obey the directions of the Captain of the Port Buffalo or her designated representative. While within a safety zone, all vessels shall operate at the minimum speed necessary to maintain a safe course.

This notice of enforcement is issued under authority of 33 CFR 165.939 and 5 U.S.C. 552 (a). In addition to this notice of enforcement in the Federal Register, the Coast Guard will provide the maritime community with advance notification of this enforcement period via Broadcast Notice to Mariners or Local Notice to Mariners. If the Captain of the Port Buffalo determines that the safety zone need not be enforced for the full duration stated in this notice he or she may use a Broadcast Notice to Mariners to grant general permission to enter the respective safety zone.

Dated: June 25, 2020.
L.M. Littlejohn,
Captain, U.S. Coast Guard, Captain of the Port Buffalo.

[FR Doc. 2020-15090 Filed 7-15-20; 8:45 am]

BILLING CODE 9110-04-P